DEPARTMENT OF STATE

[Public Notice 8447]

Foreign Affairs Policy Board Meeting Notice: Closed Meeting; Notice of Rescheduling

The meeting of the Foreign Affairs Policy Board, formerly scheduled for September 9, 2013, has been rescheduled to September 11, 2013. See 78 FR 51266, for the prior notice for the meeting as well as the Department's closed meeting determination.

For more information, contact Samantha Raddatz at (202)-647-2972.

Dated: August 27, 2013.
Andrew McCracken,
Designated Federal Officer.

[FR Doc. 2013-21373 Filed 8-30-13; 8:45 am]

BILLING CODE 4710-10-P